NATIONAL SCIENCE FOUNDATION

Notice of Permit Applications Received Under the Antarctic Conservation Act of 1978 (Pub. L. 95-541)

AGENCY: National Science Foundation.

ACTION: Notice of Waste Permit Applications Received Under the Antarctic Conservation Act of 1978, Pub. L. 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by September 6, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details:

Permit Application: 2014-006

1. Applicant: Eric Stangeland, Quark Expeditions.

Applicant Address: Quark Expeditions Inc., 93 Pilgrim Park, Suite 1 Waterbury, VT 05676.

Activity for Which Permit Is Requested

Waste Permit; Quark expeditions is planning to operate three vessels which will conduct tourist landings in the Antarctic. Each vessel will complete multiple cruises and multiple landings per cruise. Activities on shore include zodiac landings to visit wildlife, historic sites and research stations. Maximum passengers taken ashore at any one time will be limited to 100 persons. On selected voyages Quark plans to offer: (1) Guided excursions by kayak to suitably experienced and fit passengers, (2) the opportunity for a limited number of people to remain on shore to enjoy the polar night (3) the opportunity for a limited number of people to cross country ski at one or more specially selected locations (4) the opportunity for a limited number of people to downhill ski at one or more specially selected locations 5) the opportunity for a limited number of reasonably fit people to participate in ice climbing and mountaineering. No grey water, food waste or any garbage or solid waste would be brought or generated ashore during the course of the described activities. All human waste generated ashore would be contained and returned to the ship for storage and eventual proper disposal outside of the Antarctic.

Location

Western Antarctic Peninsula Region.

Dates

Dates permit valid: November 1, 2013 to March 31, 2017.

Nadene G. Kennedy,
Division of Polar Programs.

[FR Doc. 2013-19035 Filed 8-6-13; 8:45 am]

BILLING CODE 7555-01-P